INTERNATIONAL TRADE COMMISSION

[Investigation No. TA-201-75]

Crystalline Silicon Photovoltaic Cells (Whether or Not Partially or Fully Assembled Into Other Products) Determination Not To Close Any Portion of the Commission's Hearing on Injury Issues

AGENCY: United States International Trade Commission.

ACTION: Commission determination not to close any part of the hearing on injury issues in the above-captioned investigation to the public.

SUMMARY: The Commission has determined to deny a request to conduct a portion of its hearing on injury issues scheduled for August 15, 2017 in camera.

FOR FURTHER INFORMATION CONTACT: Mary Jane Alves, Office of the General Counsel, U.S. International Trade Commission, telephone 202-708-2969. Hearing-impaired individuals are advised that information on this matter may be obtained by contacting the Commission's TDD terminal on 202-205-1810.

SUPPLEMENTARY INFORMATION: On August 4, 2017, the Solar Energy Industries Association and its member company SunPower Inc. (collectively SEIA) requested in the above-captioned investigation that the Commission conduct in camera a portion of its hearing on injury issues scheduled for August 15, 2017. The Commission believes it should conduct its business in public in all but the most unusual circumstances. The Commission has determined that, in light of the nature of this investigation and the ample opportunity given parties to present written arguments, including those relying on confidential information, it will be able to assess adequately all arguments raised by SEIA without resorting to the extraordinary measure of an in camera hearing. Accordingly, the Commission has determined that the public interest would be best served by a hearing that is entirely open to the public. See 19 CFR 201.36(c)(1).

Authority: This notice is provided pursuant to 19 CFR 201.35(b).

By order of the Commission.
Issued: August 9, 2017.
Lisa R. Barton,
Secretary to the Commission.

[FR Doc. 2017-17081 Filed 8-11-17; 8:45 am]

BILLING CODE 7020-02-P